FEDERAL COMMUNICATIONS COMMISSION

47 CFR Part 73

[DA 06-344; MB Docket No. 05-240; RM-11261]

Radio Broadcasting Services; Fernandina Beach and Yulee, FL

AGENCY: Federal Communications Commission.

ACTION: Final rule.

SUMMARY: This document grants a petition filed by Tama Radio Licenses of Jacksonville, FL, Inc., licensee of Station WJSJ(FM), Channel 287A, Fernandina Beach, Florida, requesting the reallotment of Channel 287A from Fernandina Beach to Yulee, Florida, as its first local service and modification of the Station WJSJ(FM) license accordingly. See 70 FR 48360. Channel 287A can be allotted to Yulee in conformity with the Commission's rules, provided there is a site restriction of 10.6 kilometers (6.6 miles) southeast of the community, using reference coordinates 30-34-00 NL and 81-31-30 WL. To accommodate the reallotment, this document granted the relocation of transmitter site for co-owned Station WSJF(FM), Channel 288C3, St. Augustine Beach, Florida to reference coordinates 29-46-53 NL and 81-15-25 WL. This site requires a site restriction of 7.0 kilometers (4.3 miles) south of the community.

DATES: Effective April 3, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-240, adopted February 15, 2006, and released February 17, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

The Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Florida, is amended by removing Fernandina Beach, Channel 287A and by adding Yulee, Channel 287A.

Federal Communications Commission.
John A. Karousos,
Assistant Chief, Audio Division, Media Bureau.

[FR Doc. 06-2486 Filed 3-14-06; 8:45 am]

BILLING CODE 6712-01-P